DEPARTMENT OF HEALTH AND HUMAN SERVICES

Centers for Disease Control and Prevention

[60Day-22-0255; Docket No. CDC-2022-0054]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Resources and Services Database of the CDC National Prevention Information Network (NPIN). This information collection request is designed to support a resource for referrals, to facilitate partnerships and coordination among programs dealing with HIV/AIDS, viral hepatitis, STDs, and TB, and to satisfy the legislative mandate that information and education on HIV/AIDS be made available expeditiously and accurately to the professional community and to the general public.

DATES: CDC must receive written comments on or before July 12, 2022.

ADDRESSES: You may submit comments, identified by Docket No. CDC-2022-0054 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Resources and Services Database of the National Prevention Information Network (NPIN) (OMB Control No. 0920-0255, Exp. 01/31/2023)—Revision—National Center for HIV/AIDS, Viral Hepatitis, Sexually Transmitted Diseases, and Tuberculosis Prevention (NCHHSTP), Centers for Disease Control and Prevention (CDC).

Background and Brief Description

The CDC is requesting a Revision and three-year approval for Resources and Services Database of the National Prevention Information Network (NPIN) (OMB Control No. 0920-0255). Revisions include, minor formatting, changes to the surveys involving the decrease in the number of services collected, and changes to the NPIN Questionnaire for new organizations and for annual updates to reflect the changes and modernize the look.

NPIN is a critical member of the network of government agencies, community organizations, businesses, health professionals, educators, and human services providers that educate the American public about the grave threat to public health posed by HIV/AIDS, viral hepatitis, STDs, and TB, and provides services for persons infected with human immunodeficiency virus (HIV).

The NPIN Resources and Services Database contains entries on approximately 10,700 organizations and is the most comprehensive listing of HIV/AIDS, viral hepatitis, STD, and TB resources and services available throughout the country. The American public can also access the NPIN Resources and Services database through the NPIN website. More than 1,668,000 unique visitors and more than 3,000,000 page views are recorded annually.

To accomplish CDC's goal of continuing efforts to maintain an up-to-date, comprehensive database, NPIN plans each year to add up to 800 newly identified organizations and to verify those organizations currently described in the NPIN Resources and Services Database each year. Organizations with access to the internet will be given the option to complete and submit an electronic version of the questionnaire by visiting the NPIN website.

CDC requests OMB approval for an estimated 1,164 annual burden hours. There are no costs to respondents other than their time to participate.

Estimated Annualized Burden Hours
Type of respondent | Form name | Number of respondents | Number of responses per respondent | Average hours per response | Total burden (in hours)
Registered nurses, Social and community service managers, Health educators, and Social and Human service assistants | Initial Questionnaire Telephone Script | 800 | 1 | 7/60 | 93
| Telephone Verification | 9,095 | 1 | 6/60 | 910
| Email Verification | 1,605 | 1 | 6/60 | 161
Total |  |  |  |  | 1,164

Jeffrey M. Zirger,
Lead, Information Collection Review Office, Office of Scientific Integrity, Office of Science, Centers for Disease Control and Prevention.

[FR Doc. 2022-10372 Filed 5-12-22; 8:45 am]

BILLING CODE 4163-18-P